DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before October 11, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: August 4, 2011.
Darrin A. King,
Director, Information Collection Clearance Division, Regulatory Information Management Services, Office of Management.

Institute of Education Sciences

Type of Review: New.

Title of Collection: Teaching and Learning International Survey (TALIS) 2013 Field Trial.

OMB Control Number: Pending .

Agency Form Number(s): N/A.

Frequency of Responses: Annually.

Affected Public: Individuals or households.

Total Estimated Number of Annual Responses: 594.

Total Estimated Number of Annual Burden Hours: 1,265.

Abstract: Teaching and Learning International Survey (TALIS), is an international survey of the teaching workforce, teaching as a profession, and the learning environments of schools. Data are collected through questionnaires from individual teachers and their school principals in lower secondary schools (grades 7, 8 and 9) in the United States. TALIS' main objective is to help countries review current policy and develop informed education policy by providing accurate and relevant international indicators on teachers and teaching. TALIS offers an opportunity for teachers and school principals to provide their perspectives on the state of education in their own countries. Both teacher and principal questionnaires include questions about teacher and principal background and characteristics; teacher and principal professional development; school leadership and management; teacher appraisal and feedback; teachers' instructional beliefs and pedagogical practices; school climate and ethos; student characteristics as perceived by the teacher; and teacher efficacy and job satisfaction. TALIS is sponsored by the Organization for Economic Cooperation and Development and managed in the United States by the National Center for Education Statistics. This submission requests Office of Management and Budget (OMB)'s clearance for (1) A spring 2012 field trial; (2) a fall 2012 recruitment of schools for the spring 2013 main study data collection; and (3) a 60-day Federal Register notice waiver for the next OMB clearance package to be submitted in September of 2012 for the spring 2013 main data collection..

Copies of the proposed information collection request may be accessed from http://edicsweb.ed.gov, by selecting the “Browse Pending Collections” link and by clicking on link number 4696. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-20280 Filed 8-9-11; 8:45 am]

BILLING CODE 4000-01-P